DEPARTMENT OF TRANSPORTATION

Pipeline and Hazardous Materials Safety Administration

[Docket No. PHMSA-2016-0127]

Pipeline Safety: Research and Development Forum

AGENCY: Pipeline and Hazardous Materials Safety Administration (PHMSA), DOT.

ACTION: Notice of public forum.

SUMMARY: This notice announces a PHMSA sponsored Pipeline Safety Research and Development Forum. PHMSA periodically holds this public forum to generate a national research agenda that fosters solutions for the many challenges with pipeline safety and with protecting the environment. This forum allows public, government, and industry pipeline stakeholders to develop a consensus on the technical gaps and challenges for future research. It also reduces duplication of programs, factors ongoing research efforts, leverages resources, and broadens synergies. The national research agenda developed through this forum is aligned with the needs of the pipeline safety mission and makes use of the best available knowledge and expertise and considers stakeholder perspectives.

DATES: The public forum will be held on November 16-17, 2016. Name badge pick up and on-site registration will be available starting at 7:00 a.m. on November 16, with the public forum taking place from 8:00 a.m. until approximately 4:30 p.m., November 17 central time.

ADDRESSES: The public forum will be held at the Cleveland Marriott Downtown at Key Center, 127 Public Square, (Driveway Entrance on 1360 West Mall Drive), Cleveland, OH 44114. The hotel can be contacted at 800-228-9290 or 216-696-9200 or at http://www.marriott.com/hotels/travel/clesc-cleveland-marriott-downtown-at-key-center/.

FOR FURTHER INFORMATION CONTACT: Robert Smith, Engineering and Research Division, at 919-238-4759 or robert.w.smith@dot.gov.

SUPPLEMENTARY INFORMATION:

Registration: Members of the public may attend this free forum. Please note that this public forum will not be available by webcast. Onsite registration will also be available for those attending in person. Event reporting and presentations will be available shortly after the public forum.

Comments: Members of the public may submit written comments either before or after the public forum. Comments should reference Docket No. PHMSA-2016-0127. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the docket number PHMSA-2016-0127 at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement below for additional information.

Privacy Act Statement

Anyone may search the electronic form of all comments received for any of our dockets. You may review DOT's complete Privacy Act Statement in the Federal Register published April 11, 2000, (65 FR 19476) or visit http://dms.dot.gov.

Information on Services for Individuals With Disabilities

For information on facilities or services for individuals with disabilities, or to request special assistance at the meeting, please contact Robert Smith, Engineering and Research Division, at 919-238-4759 or robert.w.smith@dot.gov.

Issued in Washington, DC on October 31, 2016, under authority delegated in 49 CFR 1.97.
Linda Daugherty,
Deputy Associate Administrator for Field Operations.

[FR Doc. 2016-26564 Filed 11-2-16; 8:45 am]

BILLING CODE 4910-60-P